DEPARTMENT OF ENERGY

Federal Energy Regulatory Commission

[Docket No. EC05-30-000, et al.]

Aquila, Inc., et al.; Electric Rate and Corporate Filings

February 15, 2005.

The following filings have been made with the Commission. The filings are listed in ascending order within each docket classification.

1. Aquila, Inc.; Aquila Long Term, Inc.

[Docket No. EC05-30-000]

Take notice that on February 7, 2005, Aquila, Inc. and Aquila Long Term, Inc. (collectively, Applicants) submitted a Notice of Withdrawal of their Application to Transfer Jurisdictional Facilities filed December 28, 2004 in Docket No. EC05-30-000.

Comment Date: 5 p.m. Eastern Time on February 28, 2005.

2. Elkem Metals Company—Alloy, L.P.

[Docket No. EC05-47-000]

Take notice that on February 10, 2005, Elkem Metals Company—Alloy, L.P. (Elkem Alloy) filed with the Commission an application for authorization under section 203 of the Federal Power Act to transfer ultimate upstream control of certain jurisdictional facilities to Orkla ASA, a Norwegian company. Elkem Alloy states hat Orkla ASA has contracted to acquire from third party shareholders a majority interest in the voting shares of Elkem-Alloy's parent, Eklem ASA.

Comment Date: 5 p.m. Eastern Time on March 3, 2005.

3. Kansas City Power & Light Company

[Docket No. EC05-48-000]

Take notice that on February 10, 2005, Kansas City Power & Light Company (KCPL) submitted an application pursuant to section 203 of the Federal Power Act for authorization of a disposition of jurisdictional facilities whereby KCPL seeks authorization to sell a portion of KCPL's 161 kV transmission facilities commonly known as Lake Road-Nashua Line to Aquila, Inc. in a cash sale.

Comment Date: 5 p.m. Eastern Time on March 7, 2005.

4. Decker Energy International, Inc.; Craven Renewable LLC

[Docket No. EC05-49-000]

Take notice that on February 14, 2005, Decker Energy International, Inc. and Craven Renewable LLC (jointly, Applicants) submitted an application pursuant to section 203 of the Federal Power Act for authorization of a disposition of jurisdictional facilities whereby Decker Energy International, Inc., will divest, and Craven Renewable LLC will acquire, membership interests in Decker Energy Craven LP, LLC, which in turn owns partnership interest in Craven County Wood Energy Limited Partnership. The Applicants have requested privileged treatment for transaction documents submitted to the Commission under 18 CFR 33.9 and 18 CFR 388.12.

Comment Date: 5 p.m. Eastern Time on March 7, 2005.

5. ESI Vansycle Partners, L.P.

[Docket No. ER98-2494-007]

Take notice that on February 8, 2005, ESI Vansycle Partners, L.P. submitted tariff sheets incorporating the market behavior rules in compliance with the Commission's order in Investigation of Terms and Conditions of Public Utility Market-Based Rate Authorizations, 105 FERC ¶ 61,277 (2003).

ESI Vansycle Partners, L.P. states that copies of the filing were served on parties on the official service list in the above-captioned proceeding.

Comment Date: 5 p.m. Eastern Time on March 1, 2005.

6. Oregon Electric Utility Company, Portland General Electric Company, Portland General Term Power, Procurement Company

[Docket No. ER04-1206-002]

Take notice that, on February 11, 2005, Portland General Electric Company (PGE) submitted a supplement to their January 21, 2005 filing in this proceeding regarding the response filed January 18, 2005 to the Commission's request for additional information issued December 17, 2004.

Comment Date: 5 p.m. Eastern Time on February 22, 2005.

7. Transmission Owners of the Midwest Independent Transmission System Operator Inc.

[Docket No. ER05-447-002]

Take notice that on February 11, 2005, the Transmission Owners of the Midwest Independent Transmission System Operator (Midwest ISO Transmission Owners) submitted an amendment to the proposed Schedule 23 to the Midwest Independent Transmission System Operator, Inc.'s tariff, filed on January 13, 2005 in Docket No. ER05-447-000, as amended on January 26, 2005 in Docket No. ER05-447-001.

The Midwest ISO Transmission Owners state that they are serving this filing on all Midwest ISO's affected customers as well as on all applicable state commissions. The Midwest ISO also states that it will post a copy on its home page.

Comment Date: 5 p.m. Eastern Time on February 25, 2005.

8. Duke Energy Hanging Rock, LLC

[Docket No. ER05-567-000]

Take notice that on February 8, 2005, Duke Energy Hanging Rock, LLC (Duke Hanging Rock) tendered for filing its proposed tariff and supporting cost data for its Monthly Revenue Requirement for Reactive Supply and Voltage Control from Generation Sources Service provided to PJM Interconnection, L.L.C. (PJM). Duke Hanging Rock requests an effective date of March 1, 2005.

Duke Hanging Rock states it has served a copy of the filing on PJM.

Comment Date: 5 p.m. Eastern Time on March 2, 2005.

9. Fitchburg Gas and Electric Light Company

[Docket No. ER05-575-000]

Take notice that on February 4, 2005, Fitchburg Gas and Electric Light Company (Fitchburg) submitted an amendment to the informational filing submitted on July 30, 2004 in Docket No. ER03-1401-001 to reflect changes in the calculation of its annual revenue requirement for Network Integration Transmission Service and charges for Firm and Non-firm Point to Point Transmission Service for the period February 1, 2005 through May 31, 2005.

Fitchburg states that copies of the filing were served on parties on the official service list in Docket No. ER03-1410, on its transmission customers, and on the Massachusetts Department of Telecommunications and Energy.

Comment Date: 5 p.m. Eastern Time on February 25, 2005.

10. East Kentucky Power Cooperative, Inc.

[Docket No. TX05-1-001]

Take notice that on February 7, 2005, Tennessee Valley Authority (TVA) submitted for filing its response to the Commission's order issued January 6, 2005 requesting the submission of additional information regarding the application filed October 1, 2004 by East Kentucky Power Cooperative, Inc. in Docket No. TX05-1-000.

Comment Date: 5 p.m. Eastern Time on February 28, 2005.

11. East Kentucky Power Cooperative

[Docket No. TX05-01-002]

Take notice that on February 7, 2005, East Kentucky Power Cooperative (EKPC) submitted for filing its response to the Commission's order issued January 6, 2005 requesting the submission of additional information regarding the application filed October 1, 2004 by EKPC in Docket No. TX05-1-000.

Comment Date: 5 p.m. Eastern Time on February 28, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-742 Filed 2-23-05; 8:45 am]

BILLING CODE 6717-01-P